FEDERAL COMMUNICATIONS COMMISSION

47 CFR Part 73

[DA 05-1612; MB Docket No. 04-370, RM-11081; MB Docket No. 04-371, RM-11082; MB Docket No. 04-388, RM-11089; MB Docket No. 04-390, RM-11091; and MB Docket No. 04-391, RM-11092]

Radio Broadcasting Services; Blythe, CA; Celoron, NY; Crystal Falls, MI; Laona, WI; and Wells, TX

AGENCY: Federal Communications Commission.

ACTION: Final rule.

SUMMARY: The Audio Division, at the request of Results Broadcasting of Iron Mountain, Inc., allots Channel 280C2 at Crystal Falls, Michigan, as the community's third local FM service. Channel 280C2 can be allotted to Crystal Falls, Michigan, in compliance with the Commission's minimum distance separation requirements with a site restriction of 24.3 km (15.1 miles) southwest of Crystal Falls. The coordinates for Channel 280C2 at Crystal Falls, Michigan, are 45-57-22 North Latitude and 88-33-46 West Longitude. Concurrence in the allotment is required because the proposed allotment is located within 320 kilometers (199 miles) of the U.S.-Canadian border. Although Canadian concurrence has been requested, notification has not been received. If a construction permit for Channel 280C2 at Crystal Fall, Michigan, is granted prior to receipt of formal concurrence by the Canadian government, the authorization will include the following condition: “Operation with the facilities specified herein for Crystal Falls, Michigan, is subject to the modification, suspension, or termination without right to hearing, if found by the Commission to be necessary in order to conform to the Canada-United States FM Broadcast Agreement, or if specifically objected to by Industry Canada.” See SUPPLEMENTARY INFORMATION infra.

DATES: Effective July 25, 2005.

FOR FURTHER INFORMATION CONTACT: Deborah Dupont, Media Bureau, (202) 418-2180.

SUPPLEMENTARY INFORMATION: This is a synopsis of the Commission's Report and Order, MB Docket Nos. 04-370, 04-371, 04-388, 04-390, and 04-391, adopted June 8, 2005, and released June 10, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

The Audio Division further, at the request of Results Broadcasting of Iron Mountain, Inc., allots Channel 272C3 at Laona, Wisconsin, as the community's first local FM service. Channel 272C3 can be allotted to Laona, Wisconsin, in compliance with the Commission's minimum distance separation requirements with a site restriction of 11.1 km (6.9 miles) north of Laona. The coordinates for Channel 272C3 at Laona, Wisconsin, are 45-39-30 North Latitude and 88-43-20 West Longitude. Concurrence in the allotment is required because the proposed allotment is located within 320 kilometers (199 miles) of the U.S.-Canadian border. Although Canadian concurrence has been requested, notification has not been received. If a construction permit for Channel 272C3 at Laona, Wisconsin, is granted prior to receipt of formal concurrence by the Canadian government, the authorization will include the following condition: “Operation with the facilities specified herein for Laona, Wisconsin, is subject to modification, suspension, or termination without right to hearing, if found by the Commission to be necessary in order to conform to the Canada-United States FM Broadcast Agreement, or if specifically objected to by Industry Canada.”

The Audio Division, at the request of Linda A. Davidson, allots Channel 239B at Blythe, California, as the community's second local FM service. Channel 239B can be allotted to Blythe, California, in compliance with the Commission's minimum distance separation requirements without site restriction at center city reference coordinates. The coordinates for Channel 239B at Blythe, California, are 33-37-02 North Latitude and 114-35-20 West Longitude. Concurrence in the allotment is required because the proposed allotment is located within 320 kilometers (199 miles) of the U.S.-Mexican border. Although Mexican concurrence has been requested, notification has not been received. If a construction permit for Channel 239B at Blythe, California, is granted prior to receipt of formal concurrence by the Mexican government, the authorization will include the following condition: “Operation with the facilities specified herein for Blythe, California, is subject to modification, suspension, or termination without right to hearing, if found by the Commission to be necessary in order to conform to the Mexico-United States FM Broadcast Agreement, or if specifically objected to by the Government of Mexico.”

The Audio Division, at the request of Dana J. Puopolo, Inc., allots Channel 237A at Celoron, New York, as the community's first local FM service. Channel 237A can be allotted to Celoron, New York, in compliance with the Commission's minimum distance separation requirements with a site restriction of 0.4 km (0.2 miles) southeast of Celoron. The coordinates for Channel 237A at Celoron, New York, are 42-06-24 North Latitude and 79-16-53 West Longitude. Concurrence in the allotment is required because the proposed allotment is located within 320 kilometers (199 miles) of the U.S.-Canadian border. Although Canadian concurrence has been requested, notification has not been received. If a construction permit for Channel 237A at Celoron, New York, is granted prior to receipt of formal concurrence by the Canadian government, the authorization will include the following condition: “Operation with the facilities specified herein for Celoron, New York, is subject to the modification, suspension, or termination without right to hearing, if found by the Commission to be necessary in order to conform to the Canada-United States FM Broadcast Agreement, or if specifically objected to by Industry Canada.”

The Audio Division, at the request of Charles Crawford, allots Channel 254A at Wells, Texas, as the community's second local FM service. Channel 254A can be allotted to Wells, Texas, in compliance with the Commission's minimum distance separation requirements with a site restriction of 1.6 km (1.0 miles) west of Wells. The coordinates for Channel 254A at Wells, Texas, are 31-29-35 North Latitude and 94-57-20 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 239B at Blythe.

3. Section 73.202(b), the Table of FM Allotments under Michigan, is amended by adding Channel 280C2 at Crystal Falls.

4. Section 73.202(b), the Table of FM Allotments under New York, is amended by adding Celoron, Channel 237A.

5. Section 73.202(b), the Table of FM Allotments under Texas, is amended by adding Channel 254A at Wells.

6. Section 73.202(b), the Table of FM Allotments under Wisconsin, is amended by adding Laona, Channel 272C3.

Federal Communications Commission.
John A. Karousos,
Assistant Chief, Audio Division, Media Bureau.

[FR Doc. 05-12471 Filed 6-28-05; 8:45 am]

BILLING CODE 6712-01-P